DEPARTMENT OF THE INTERIOR

Fish and Wildlife Service

Environmental Review of Proposed Incidental Take Permit and Habitat Conservation Plan for the Kaua'i Island Utility Cooperative, Hawai'i

AGENCY: Fish and Wildlife Service, Interior.

ACTION: Notice of intent; notice of scoping meeting.

SUMMARY: Pursuant to the National Environmental Policy Act the U.S. Fish and Wildlife Service (Service) is advising the public that we intend to gather information necessary to prepare, in coordination with the Hawai'i Department of Land and Natural Resources (DLNR), a joint Federal/State environmental document (Environmental Assessment or Environmental Impact Statement) for a proposed habitat conservation plan (HCP) that is being prepared by the Kaua'i Island Utility Cooperative (KIUC). The proposed HCP is being prepared under section 10(a) of the Federal Endangered Species Act (ESA) and section 195D-21 of the Hawai'i Revised Statutes (HRS). The KIUC intends to apply for an incidental take permit under the ESA and a State section 195D-21 incidental take license to authorize take of the federally endangered Hawaiian petrel (Pterodroma sandwichensis), the federally threatened Newell's shearwater (Puffinus auricularis newelli), and the band-rumped storm-petrel (Oceanodroma castro), a federal candidate that may become listed under the ESA during the term of the permit. We provide this notice to advise other Federal and State agencies, affected Tribes, and the public of our intentions; to announce the initiation of a 30-day public scoping period; and to request suggestions and information on the scope of issues and alternatives to be addressed in the environmental document. We invite oral or written comments from interested parties to ensure that the full range of issues related to the permit request is identified.

DATES: Oral and written comments will be accepted at a public scoping meeting held on Thursday, 16 September 2004 from 7-9 p.m. Written comments from all interested parties must be postmarked by August 16, 2004.

ADDRESSES: The public meeting will be held in Līhu'e, Kaua'i, at the Planning Commission Conference Room, Mo'ikeha Building, 4444 Rice Street, Lihue, Hawai'i. Information, written comments, or questions related to the NEPA process, or requests to be added to the mailing list, should be submitted to the Acting Field Supervisor, U.S. Fish and Wildlife Service, Pacific Islands Fish and Wildlife Office, PO Box 50088, Honolulu, Hawai'i 96850 (facsimile: 808-792-9581)

FOR FURTHER INFORMATION CONTACT: Arlene Pangelinan, Conservation Planning and Permits Program Leader (see ADDRESSES), or at 808-792-9400.

SUPPLEMENTARY INFORMATION:

Reasonable Accommodation

Persons needing reasonable accommodations in order to attend and participate in the public meeting should contact Jenness McBride, Fish and Wildlife Biologist, as soon as possible (see ADDRESSES), or at (808) 792-9400. To allow sufficient time to process requests, please call no later than 1 week before the public meeting. Information regarding this proposed action is available in alternative formats upon request.

Background

Federal agencies are required to conduct National Environmental Policy Act (NEPA) (42 U.S.C. 4321 et seq.) analyses of their proposed actions to determine if the actions may affect the human environment. The Service anticipates that the KIUC will request an ESA (16 U.S.C. 1531 et seq.) incidental take permit. Therefore, we are seeking public input on the scope of NEPA analysis required, including the range of reasonable alternatives and the associated impacts of those alternatives.

Section 9 of the ESA and its implementing Federal regulations prohibit the “take” of species listed as threatened or endangered. Take is defined under the ESA to include actions that harass, harm, pursue, hunt, shoot, wound, kill, trap, capture or collect listed animal species, or attempt to engage in such conduct (16 U.S.C. 1538). Harm includes significant habitat modification or degradation where it actually kills or injures listed wildlife by significantly impairing essential behavioral patterns, including breeding, feeding, and sheltering (50 CFR 17.3(c)). Under limited circumstances the Service may issue permits to take listed species incidental to, and not the purpose of, carrying out otherwise lawful activities. Section 10(a)(1)(B) of the ESA and regulations governing permits for threatened and endangered species at 50 CFR 17.32 contain provisions for issuing incidental take permits to non-Federal entities for the take of endangered and threatened species, provided the Service determines the following criteria are met: (1) The taking will be incidental; (2) the applicant will, to the maximum extent practicable, minimize and mitigate the impacts of such taking; (3) the applicant will ensure that adequate funding for the HCP will be provided; (4) the taking will not appreciably reduce the likelihood of the survival and recovery of the species in the wild; and (5) any other measures that the Service may require as being necessary or appropriate for the purposes of the HCP will be met.

The KIUC is a not-for-profit, member-owned utility cooperative that generates and distributes electricity to the entire island of Kaua'i, Hawai'i. It intends to apply for a incidental take permit for three seabird species to be covered under an HCP, the endangered Hawaiian petrel, the threatened Newell's shearwater, and the band-rumped storm-petrel, a candidate for Federal listing. Species may be added or deleted during the course of the HCP's development based on further analysis, new information, agency consultation, and public comment.

These seabird species breed on the island of Kaua'i and feed on the open ocean. Thus they spend a large part of the year at sea. Adults generally return to their colonial nesting grounds in the interior mountains of Kaua'i beginning in March and April, and depart beginning in September. Fledglings (i.e., young birds learning how to fly) make their first journey from nesting colony to the sea in the fall. Both adults and fledglings are known to occasionally collide with tall buildings, towers, powerlines, and other structures while flying at night between their nesting colonies and at-sea foraging areas. These birds, and particularly fledglings, are also attracted to bright lights. Disoriented birds are commonly observed circling repeatedly around exterior light sources until they fall exhausted to the ground or collide with structures.

The proposed HCP will cover the KIUC activities within all areas on Kaua'i where their facilities (e.g., generating stations, powerlines, utility poles, and lights) are located, including operation, maintenance, and repair of these and other existing facilities, and construction, operation, maintenance, and repair of new facilities, during the term of the incidental take permit. Under the proposed HCP, the effects of covered activities associated with the KIUC facilities and operations are expected to be minimized and mitigated through a fully described conservation program. The biological goals of the proposed HCP are to avoid and minimize the incidental take of listed seabirds associated with construction, operation, maintenance, and repair of the KIUC structures and facilities; and to mitigate any unavoidable incidental take by improving seabird survival and breeding success. The proposed HCP will analyze minimizing the impacts of existing and future facilities and operations through a variety of measures, such as shielding lights (primarily streetlights mounted on utility poles), installing powerline marker balls, and implementing certain design features to reduce the risk of seabird collisions, such as installing powerlines below seabird flight altitudes, modifying powerline arrays, and placing certain powerline segments underground. The conservation program also will include efforts to rescue and rehabilitate birds grounded by collisions or light-attraction effects, monitor trends in the number and locations of downed seabirds, and conduct research needed to investigate information gaps that limit options for minimizing or mitigating incidental take.

Since November 2002, the KIUC has been working with the Service under a Memorandum of Agreement to implement certain interim conservation measures to benefit listed seabird species on Kaua'i, while the proposed HCP is being developed. The KIUC has shielded all streetlights on their utility poles to reduce light-attraction impacts, placed powerline marker balls where needed in areas of concentrated seabird flight paths, contributed funds to partially support the State's program to rescue and rehabilitate downed seabirds, and is initiating a nesting colony habitat improvement program in partnership with a third-party landowner for control of non-native mammalian predators. These measures and additional off-site mitigation activities will be included in the conservation program described in the proposed HCP.

Environmental Review

The Service and the DLNR are proposing to conduct an environmental review of the proposed issuance of Federal and State incidental take permits and the associated proposed HCP, and to prepare a joint Federal/State environmental document to assess potential impacts related to the ecosystem and the human environment. The KIUC, the Service, and the DLNR have selected Planning Solutions, Inc., of Honolulu, Hawai'i, to prepare the draft environmental document. The joint Federal/State document will be prepared in compliance with NEPA and the HRS Chapter 343. Although Planning Solutions, Inc., will prepare the environmental document, the Service will be responsible for the scope and content of the document for NEPA purposes, and the DLNR will be responsible for the scope and content of the document for the HRS Chapter 343 purposes.

The Service's proposed action is the issuance of an incidental take permit and implementation of the associated HCP, which will include measures to minimize and mitigate incidental take of the covered species.

The environmental review will consider the proposed action, no action (i.e., no permit issuance), a reasonable range of alternatives, and the associated impacts of each alternative. A detailed description of the proposed action and alternatives (including no action) will be included in the environmental document. We anticipate that several alternatives will be developed, which may vary by the level of impacts caused by the proposed activities, their specific locations, and the conservation measures involved. Potential alternatives may include various methods of minimizing take through modifications of existing powerlines, structures, and lights; placing powerline segments underground; implementing design standards for new facilities; and developing and implementing various approaches for improving seabird survival and breeding success.

The environmental document also will identify potentially significant impacts on other biological resources, land use, air quality, water quality, mineral resources, water resources, cultural and archeological resources, socio-economic conditions, and other ecosystem and human environment issues that could result directly or indirectly from implementation of the proposed action and alternatives. For potentially significant impacts, the environmental document may identify mitigation measures to reduce those impacts to a level below significance. We anticipate the final environmental document will be completed by spring 2005.

The Service will conduct the proposed environmental review in accordance with the requirements of NEPA (42 U.S.C. 4321 et seq.), its implementing regulations (40 CFR parts 1500-1508), other appropriate Federal laws and regulations, and policies and procedures of the Service for compliance with those regulations. We are publishing this notice in accordance with Section 1501.7 of the NEPA regulations to obtain suggestions and information from other agencies and the public on the scope of issues and alternatives to be addressed in the environmental document. The primary purpose of the scoping process is to identify, rather than to debate, significant issues related to the proposed action. We invite comments and suggestions from all interested parties to ensure that a reasonable range of alternatives is addressed and that all potentially significant issues are identified. All comments received, including names and addresses, will become part of the official administrative record and may be made available to the public. We will fully consider all comments received during the comment period.

Dated: June 14, 2004.
David J. Wesley,
Deputy Regional Director, Region 1, U.S. Fish and Wildlife Service.

[FR Doc. 04-16095 Filed 7-14-04; 8:45 am]

BILLING CODE 4310-55-P